ENVIRONMENTAL PROTECTION AGENCY

[FRL-7786-3]

Science Advisory Board Staff Office; Notification of Upcoming Meeting of the Science Advisory Board Environmental Health Committee and the Integrated Human Exposure Committee

AGENCY: Environmental Protection Agency (EPA).

ACTION: Notice.

SUMMARY: The EPA's Science Advisory Board (SAB) Staff Office is announcing a public meeting of the SAB Environmental Health Committee and the Integrated Human Exposure Committee.

DATES: July 26, 2004. Monday, July 26, 2004, from 9 a.m. to 5 p.m. (Eastern Time).

ADDRESSES: The public meeting of the committees will be held at the SAB Conference Center located at the Woodies Building, 1025 F Street, NW., Room 3705, Washington, DC, 20004.

FOR FURTHER INFORMATION CONTACT: Any member of the public wishing further information regarding the public meeting may contact Dr. Sue Shallal, Designated Federal Officer (DFO), by telephone/voice mail at (202) 343-9977, fax at (202) 233-0643, by e-mail at shallal.suhair@epa.gov, or by mail at U.S. EPA SAB (1400F), 1200 Pennsylvania Ave., NW., Washington, DC 20460. General information about the SAB and the meeting location may be found on the SAB Web site at: http://www.epa.gov/sab.

SUPPLEMENTARY INFORMATION:

Background

The Integrated Human Exposure Committee (IHEC) and the Environmental Health Committee (EHC) of the chartered SAB will hold a public meeting pursuant to the Federal Advisory Committee Act, Public Law 92-463. The SAB IHEC provides advice through the chartered SAB to EPA on many of the exposure assessment issues that come before the chartered SAB. The SAB EHC often provides advice through the chartered SAB to EPA on the development and use of guidelines for human health risk assessments. As a follow-up to their joint meeting in December 2003, the SAB IHEC and EHC, will receive briefings and updates on EPA Risk Assessment activities and determine how the chartered SAB can best assist the Agency with regards to its future initiatives.

Availability of Meeting Materials

A copy of the agenda for the meeting that is the subject of this notice will be posted on the SAB Web site prior to the meeting.

Procedures for Providing Public Comments

It is the policy of the SAB to accept written public comments of any length, and to accommodate oral public comments whenever possible. The SAB Staff Office expects that public statements presented at the meeting will not be repetitive of previously submitted oral or written statements.

Oral Comments: In general, each individual or group requesting an oral presentation at a face-to-face meeting will be limited to a total time of ten minutes (unless otherwise indicated). Interested parties should contact the DFO in writing (e-mail, fax or mail—see contact information above) by close of business July 19, 2004, in order to be placed on the public speaker list for the meeting. Speakers should bring at least 35 copies of their comments and presentation slides for distribution to the participants and public at the meeting.

Written Comments: Although the SAB Staff Office accepts written comments until the date of the meeting (unless otherwise stated), written comments should be received in the SAB Staff Office at least seven business days prior to the meeting date so that the comments may be made available to the panel for their consideration. Comments should be supplied to the DFO at the address/contact information noted above in the following formats: one hard copy with original signature, and one electronic copy via e-mail (acceptable file format: Adobe Acrobat, WordPerfect, Word, or Rich Text files in IBM-PC/Windows 98/2000/XP format). Those providing written comments and who attend the meeting are also asked to bring 35 copies of their comments for public distribution.

Meeting Accommodations

Individuals requiring special accommodations to access the public meetings listed above should contact the DFO at least five business days prior to the meeting so that appropriate arrangements can be made.

Dated: July 7, 2004.
Vanessa T. Vu,
Director, EPA Science Advisory Board Staff Office.

[FR Doc. 04-15819 Filed 7-12-04; 8:45 am]

BILLING CODE 6560-50-P